DEPARTMENT OF THE TREASURY

Submission for OMB Review; Comment Request

August 12, 2013.

The Department of the Treasury will submit the following information collection requests to the Office of Management and Budget (OMB) for review and clearance in accordance with the Paperwork Reduction Act of 1995, Public Law 104-13, on or after the date of publication of this notice.

DATES: Comments should be received on or before September 16, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Fiscal Service

OMB Number: 1535-0121.

Type of Review: Extension without change of a currently approved collection.

Title: U.S. Treasury Securities State and Local Government Series—Early Redemption Request.

Form: PD F 5377.

Abstract: The information is used to process early redemption requests for the owners of State and Local Government Series Securities.

Affected Public: State, Local, and Tribal Governments.

Estimated Annual Burden Hours: 247.

OMB Number: 1535-0131.

Type of Review: Revision of a currently approved collection.

Title: Application for Disposition of Series I Savings Bonds after the Death of the Registered Owner(s).

Form: PD F 5394.

Abstract: The information is necessary to distribute Treasury securities and/or payments to the entitled person(s) when the decedent's estate was formally administered through the court and has been closed, or the estate is being settled in accordance with State statute without the necessity of the court appointing a legal representative.

Affected Public: Individuals or Households.

Estimated Annual Burden Hours: 9,250.

OMB Number: 1535-0092.

Type of Review: Extension without change of a currently approved collection.

Title: Subscription for Purchase and Issue of U.S. Treasury Securities—State and Local Government Series.

Form: PD F 4144, 4144-1, 4144-2, 4144-6, 4144-7, and 4144-5.

Abstract: The information is necessary to establish and maintain the accounts for owners of securities of State and Local Government Series.

Affected Public: State, Local, and Tribal Governments.

Estimated Annual Burden Hours: 2,713.

OMB Number: 1535-0127.

Type of Review: Revision of a currently approved collection.

Title: Offering of U.S. Mortgage Guaranty Insurance Company Tax and Loss Bonds.

Abstract: Regulations governing the issue, reissue, and redemption of U.S. Mortgage Guaranty Insurance Company Tax and Loss Bonds.

Affected Public: Private sector: Businesses or other for-profits.

Estimated Annual Burden Hours: 13.

Dawn D. Wolfgang,
Treasury PRA Clearance Officer.

[FR Doc. 2013-19804 Filed 8-14-13; 8:45 am]

BILLING CODE 4810-39-P